DEPARTMENT OF JUSTICE

Notice of Lodging of Proposed Consent Decree Under The Clean Air Act

On May 1, 2015, the Department of Justice lodged a proposed Consent Decree with the United States District Court for the Western District of Michigan in the lawsuit entitled United States v. Merit Energy Company, Civil Action No. 1:15-cv-00455.

The Consent Decree addresses alleged violations of the Clean Air Act, 42 U.S.C. 7401, et seq., and its implementing regulations at an onshore natural gas processing plant in Kalkaska, Michigan that is owned and operated by Merit Energy Company (“Merit”). The United States alleges that Merit failed to comply with certain requirements governing the control of hazardous air pollutant emissions under Section 111 of the Clean Air Act, 42 U.S.C. 7411, and the implementing regulations at: (i) 40 CFR part 60, subpart KKK (Standards of Performance for Equipment Leaks of Volatile Organic Compounds From Onshore Natural Gas Processing Plants); (ii) 40 CFR part 60, subpart VV (Standards of Performance for Equipment Leaks of VOC in the Synthetic Organic Chemicals Manufacturing Industry); and (iii) 40 CFR part 60, Appendix A (Method-21 Determination of VOC Leaks)

The proposed Consent Decree would resolve the claims alleged in the United States' Complaint in exchange for the Defendant's commitment to implement appropriate injunctive relief and pay a civil penalty of $850,000. Among other things, the injunctive relief provisions of the Consent Decree would require Merit to implement an enhanced leak detection and repair program at its Kalkaska, Michigan natural gas processing plant.

The publication of this notice opens a period for public comment on the Consent Decree. Comments should be addressed to the Assistant Attorney General, Environment and Natural Resources Division, and should refer to United States v. Merit Energy Company, D.J. Ref. No. 90-5-2-1-10951. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $17.50 (25 cents per page reproduction cost) payable to the United States Treasury.

Randall M. Stone,
Acting Assistant Section Chief, Environmental Enforcement Section, Environment and Natural Resources Division.

[FR Doc. 2015-11331 Filed 5-8-15; 8:45 am]

BILLING CODE 4410-15-P